DEPARTMENT OF ENERGY

Federal Energy Regulatory Commission

[Project No. 2485-028 Massachusetts]

Northeast Generation Company; Notice of Availability of Environmental Assessment

December 2, 2005.

In accordance with the National Environmental Policy Act of 1969, as amended, and the Federal Energy Regulatory Commission's (Commission) regulations (18 CFR part 380), Commission staff have reviewed the application, filed November 16, 2005, by the project licensee, Northeast Generation Company, for a temporary amendment of license for the Northfield Mountain Pumped Storage Project. The request is for a deviation from required project operating limits to allow additional operating flexibility this winter. The project is located on the east side of the Connecticut River, in the towns of Northfield and Erving, in Franklin County, Massachusetts.

The proposal would modify the upper reservoir's water surface elevation limits from 938 and 1000.5 feet mean sea level (msl), to 920 and 1004.5 feet msl, respectively, and allow a maximum daily generation of 10,465 megawatt hours (MWh) under certain ISO-NE emergency operating conditions from December 1, 2005, through March 31, 2006. At all other times, the upper reservoir would be operated within existing limits, and generation would be within the existing maximum limit of 8,475 MWh. The project uses the reservoir at the Turners Falls Project (FERC No. 1889) on the Connecticut River as its lower reservoir, and proposes no changes in its operating elevations.

In the environmental assessment (EA), Commission staff has analyzed the probable environmental effects of the proposed amendment and has concluded that approval, with the addition of staff-recommended measures, would not constitute a major Federal action significantly affecting the quality of the human environment.

A copy of the EA is attached to the Commission order titled “Order Granting Temporary Amendment of License,” issued November 30, 2005, and is available at the Commission's Public Reference Room. A copy of the EA may also be viewed on the Commission's Web site at http://www.ferc.gov using the “elibrary” link. Enter the docket number (P-2485) in the docket number field to access the document. For assistance, call (202) 502-8222, or (202) 502-8659 (for TTY).

Magalie R. Salas,
Secretary.

[FR Doc. E5-7141 Filed 12-8-05; 8:45 am]

BILLING CODE 6717-01-P